DEPARTMENT OF ENERGY

Federal Energy Regulatory Commission

Combined Notice of Filings #2

Take notice that the Commission received the following electric rate filings:

Docket Numbers: ER10-2822-011; ER11-2196-008; ER11-2462-007; ER11-2463-007; ER11-2464-007; ER11-2465-008; ER11-2466-007; ER11-2467-007; ER11-2468-007; ER11-2469-007; ER11-2470-007; ER11-2471-007; ER11-2472-007; ER11-2473-007; ER11-2474-009; ER11-2475-007; ER16-1250-003.

Applicants: Atlantic Renewable Projects II LLC, Avangrid Renewables, LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Pebble Springs Wind LLC, San Luis Solar LLC, Star Point Wind Project LLC, Twin Buttes Wind LLC.

Description: Updated Market Power Analysis for the Northwest Region of AVANGRID Northwest MBR Sellers.

Filed Date: 12/30/16.

Accession Number: 20161230-5239.

Comments Due: 5 p.m. ET 2/28/17.

Docket Numbers: ER10-2906-008; ER10-2908-008; ER10-2910-008; ER10-2911-008; ER11-4666-002; ER11-4667-002; ER11-4669-002; ER11-4670-002; ER12-295-001; ER12-709-001.

Applicants: Morgan Stanley Capital Group Inc., MS Solar Solutions Corp., Naniwa Energy LLC, Power Contract Financing II, L.L.C., NaturEner Glacier Wind Energy 1, LLC, NaturEner Glacier Wind Energy 2, LLC, NaturEner Rim Rock Wind Energy, LLC, NaturEner Montana Wind Energy, LLC, NaturEner Power Watch, LLC, NaturEner Wind Watch, LLC.

Description: Updated Market Power Analysis for the Northwest Region and Notice of Change in Status of the Morgan Stanley Public Utilities, et al.

Filed Date: 12/30/16.

Accession Number: 20161230-5237.

Comments Due: 5 p.m. ET 2/28/17.

Docket Numbers: ER15-1952-003; ER16-853-002; ER16-855-002; ER16-856-002; ER16-857-002; ER16-858-002; ER16-860-002; ER16-861-002.

Applicants: Pavant Solar, LLC, Enterprise Solar, LLC, Escalante Solar I, LLC, Escalante Solar II, LLC, Escalante Solar III, LLC, Granite Mountain Solar East, LLC, Granite Mountain Solar West, LLC, Iron Springs Solar, LLC.

Description: Triennial Market Power Analysis for the Northwest Region of Pavant Solar, LLC, et al.

Filed Date: 12/30/16.

Accession Number: 20161230-5240.

Comments Due: 5 p.m. ET 2/28/17.

Docket Numbers: ER15-2351-002.

Applicants: Southwest Power Pool, Inc.

Description: Compliance filing: Alliant Energy Corp. Serv. Att AH SA 3066SO/Att AO SA 3071SO to be effective 10/1/2015.

Filed Date: 1/3/17.

Accession Number: 20170103-5090.

Comments Due: 5 p.m. ET 1/24/17.

Docket Numbers: ER16-328-003; ER10-2196-003; ER11-4027-008; ER12-1275-003; ER12-952-004; ER13-1141-003; ER13-1142-003; ER13-1143-004; ER13-1144-004; ER15-1657-004; ER16-918-002.

Applicants: Cogentrix Virginia Financing Holding Company, LLC, Essential Power, LLC, Essential Power Massachusetts, LLC, Essential Power Newington, LLC, Essential Power OPP, LLC, Essential Power Rock Springs, LLC, James River Genco, LLC, Lakewood Cogeneration, L.P., Red Oak Power, LLC, Rhode Island State Energy Center, LP, SEPG Energy Marketing Services, LLC.

Description: Updated Market Power Analysis for the Northeast Region of Cogentrix Virginia Financing Holding Company, LLC, et al.

Filed Date: 12/30/16.

Accession Number: 20161230-5230.

Comments Due: 5 p.m. ET 2/28/17.

Docket Numbers: ER17-736-000.

Applicants: Quantum Power Corp.

Description: Compliance filing: Market Based Rate Tariff Baseline Filing to be effective 1/1/2017.

Filed Date: 1/3/17.

Accession Number: 20170103-5095.

Comments Due: 5 p.m. ET 1/24/17.

Docket Numbers: ER17-737-000.

Applicants: Viridity Energy Solutions Inc.

Description: Baseline eTariff Filing: VES MBR Application to be effective1/4/2017.

Filed Date: 1/3/17.

Accession Number: 20170103-5150.

Comments Due: 5 p.m. ET 1/24/17.

Docket Numbers: ER17-738-000.

Applicants: Southwest Power Pool, Inc.

Description: § 205(d) Rate Filing: 3125R4 Basin Electric Power Cooperative NITSA and NOA to be effective 12/1/2016.

Filed Date: 1/3/17.

Accession Number: 20170103-5186.

Comments Due: 5 p.m. ET 1/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2017.
Nathaniel J. Davis, Sr.,
Deputy Secretary.

[FR Doc. 2017-00119 Filed 1-6-17; 8:45 am]

BILLING CODE 6717-01-P